DEPARTMENT OF TRANSPORTATION

[DOT Docket No. DOT-OST-2010-0074]

Office of the Secretary of Transportation: The Future of Aviation Advisory Committee (FAAC) Environment Subcommittee; Notice of Meeting

AGENCY: U.S. Department of Transportation, Office of the Secretary of Transportation.

ACTION: The Future of Aviation Advisory Committee (FAAC) Environment Subcommittee; Notice of Federal Advisory Committee Meeting.

SUMMARY: The Department of Transportation (DOT), Office of the Secretary of Transportation, announces a meeting of the FAAC Environment Subcommittee, which will be held by teleconference. This notice announces the date and time of the meeting, which will be open to the public. The purpose of the FAAC is to provide advice and recommendations to the Secretary of Transportation to ensure the competitiveness of the U.S. aviation industry and its capability to manage effectively the evolving transportation needs, challenges, and opportunities of the global economy. The Environment Subcommittee is charged with examining steps and strategies that can be taken by aviation-sector stakeholders and the Federal Government to reduce aviation's environmental footprint and foster sustainability gains in cost-effective ways. This includes consideration of potential approaches to promote effective international actions through the International Civil Aviation Organization.

DATES: The meeting will be held on September 20, 2010, from 1 p.m. to 4 p.m. Eastern Daylight Time.

ADDRESSES: The meeting will be held via teleconference. Call-in information will be provided to members of the public who register to participate.

Public Access: The meeting is open to the public. (See below for registration instructions.)

Public Comments: Persons wishing to offer written comments and suggestions concerning the activities of the advisory committee or Environment Subcommittee should file comments in the Public Docket (Docket Number DOT-OST-2010-0074 at http://www.regulations.gov) or alternatively through the FAAC@dot.gov e-mail. If comments and suggestions are intended specifically for the Environment Subcommittee, the term “Environment” should be listed in the subject line of the message. To ensure such comments can be considered by the subcommittee before its September 20, 2010, meeting, public comments must be filed by 5 p.m. Eastern Daylight Time on Wednesday, September 15, 2010.

SUPPLEMENTARY INFORMATION:

Background

Under section 10(a)(2) of the Federal Advisory Committee Act (5 U.S.C. App. 2), we are giving notice of a meeting of the Environment Subcommittee of the Future of Aviation Advisory Committee taking place on September 20, 2010, from 1 p.m. to 4 p.m. Eastern Daylight Time. The meeting will be held by teleconference. The agenda includes—

1. Discussion of operational and technological improvements, sustainable alternative fuels, and harmonized domestic and global efforts that can contribute to reducing aviation carbon emissions.

2. Consideration of public comments.

3. Identification of potential recommendations for presentation at the next meeting of the full committee.

Registration

The meeting can accommodate up to 15 members of the public. Persons desiring to call in must preregister through e-mail to FAAC@dot.gov by 5 p.m. Eastern Daylight Time Wednesday, September 15, 2010. The term “Registration: Environment” should be listed in the subject line of the message and participation will be limited to the first 15 persons to preregister and receive a confirmation of their preregistration. Instructions for participating by phone will be provided with registration confirmation. Minutes of the meeting will be taken and will be made available to the public.

Requests for Special Accommodation

The DOT is committed to providing equal access to this meeting for all participants. If you need alternative formats or services because of a disability, please send a request to FAAC@dot.gov with the term “Special Accommodations” listed in the subject line of the message by close of business Wednesday, September 15, 2010.

FOR FURTHER INFORMATION CONTACT: Lynne Pickard, Deputy Director, Office of Environment and Energy, Federal Aviation Administration, 800 Independence Avenue, SW., Washington DC 20591; telephone (202) 267-3577; fax (202) 267-5594; Lynne.Pickard@faa.gov.

Issued in Washington, DC, on September 7, 2010.
Pamela Hamilton-Powell,
Designated Federal Official, Future of Aviation Advisory Committee.

[FR Doc. 2010-22653 Filed 9-10-10; 8:45 am]

BILLING CODE P